DEPARTMENT OF ENERGY

Federal Energy Regulatory Commission and the California State Lands Commission

[FERC Docket No. CP01-422-000, CA State Clearinghouse No. 2001071035, and BLM Reference No. CACA-43346]

Kern River Gas Transmission Company; Notice of Availability/Completion of the Draft Environmental Impact Statement/Report for the Proposed Kern River 2003 Expansion Project

February 21, 2002.

The staffs of the Federal Energy Regulatory Commission (FERC or Commission) and the California State Lands Commission (CSLC) have prepared a draft environmental impact statement/report (EIS/EIR) to address natural gas pipeline facilities proposed by Kern River Gas Transmission Company (KRGT).

The draft EIS/EIR was prepared as required by the National Environmental Policy Act and the California Environmental Quality Act. Its purpose is to inform the public and the permitting agencies about the potential adverse and beneficial environmental impacts of the proposed project and its alternatives, and recommend mitigation measures that would reduce any significant adverse impacts to the maximum extent possible and, where feasible, to a less than significant level. The FERC and the CSLC staffs conclude that approval of the proposed project, with appropriate mitigation measures as recommended, would have limited adverse environmental impact.

The Bureau of Land Management (BLM) is participating as a cooperating agency in the preparation of the EIS/EIR because the project would cross Federal land under the jurisdiction of seven field offices in Wyoming, Utah, and Nevada, and one district office and three field offices in California. The U.S. Department of Agriculture, Forest Service (FS) is also a cooperating agency in the preparation of the document because the Dixie National Forest and the Humboldt-Toiyabe National Forest/Spring Mountains National Recreation Area would be crossed by the project. The EIS/EIR will be used by the BLM to consider issuance of a right-of-way grant for the portion of the project on Federal lands.

The draft EIS/EIR addresses the potential environmental effects of the construction and operation of the following facilities in Wyoming, Utah, Nevada, and California:

• 634.5 miles of 36-inch-diameter pipeline adjacent to KRGT's existing pipeline in Wyoming (Lincoln and Uinta Counties), Utah (Summit, Morgan, Salt Lake, Utah, Juab, Millard, Beaver, Iron, and Washington Counties), Nevada (Lincoln and Clark Counties), and California (San Bernardino County);

• 82.2 miles of 42-inch-diameter pipeline adjacent to the portion of KRGT's existing pipeline that it jointly owns with Mojave Pipeline Company in California (San Bernardino and Kern Counties);

• 0.8 mile of 12-inch-diameter pipeline in Uinta County, Wyoming;

• three new compressor stations, one each in Wyoming (Uinta County), Utah (Salt Lake County), and Nevada (Clark County) for a total of 60,000 horsepower (hp) of compression;

• modifications to six existing compressor stations, one in Wyoming (Lincoln County), three in Utah (Utah, Millard, and Washington Counties), one in Nevada (Clark County), and one in California (San Bernardino County) for a total of 103,700 hp of compression;

• modifications to one existing meter station in Wyoming (Lincoln County) and four existing meter stations in California (two each in San Bernardino and Kern Counties); and

• various mainline block valves, internal inspection tool launcher/receiver facilities, and other appurtenances.

Comment Procedures and Public Meetings

Any person wishing to comment on the draft EIS/EIR may do so. However, to ensure inclusion in the environmental analysis it is imperative that your comments are received by the date specified below. Please carefully follow these instructions so that your comments are properly recorded:

• Send an original and two copies of your comments to: Magalie R. Salas, Secretary, Federal Energy Regulatory Commission 888 First Street, N.E., Room 1A, Washington, DC 20426;

• Reference Docket No. CP01-422-000;

• Label one copy of your comments for the attention of the Gas Branch 1;

• Send an additional copy of your letter to the following individual: Cy Oggins, California State Lands Commission, 100 Howe Avenue, Suite 100 South, Sacramento, CA 95825; and

• Mail your comments so that they will be received in Washington, DC and Sacramento, CA on or before April 15, 2002.

Please note that we are continuing to experience delays in mail deliveries from the U.S. Postal Service. Because only those comments received on or before April 15, 2002 will be considered in the final EIS/EIR, the Commission encourages electronic filing or use of private mail delivery services to submit comments on the draft EIS/EIR. See Title 18 Code of Federal Regulations (CFR) Part 385.2001(a)(1)(iii) and the instructions on the Commission's website at http://www.ferc.gov under the “e-Filing” link and the link to the User's Guide. Before you can file comments you will need to create an account by clicking on “Login to File” and then “New User Account.”

In addition to or in lieu of sending written comments, the FERC and the CSLC invite you to attend the public meetings the staffs will conduct in the project area to receive comments on the draft EIS/EIR. All meetings will begin at 7:00 p.m., and are scheduled as follows:

Date | Location
Monday, April 1, 2002 | Ramada Inn, 1511 E. Main Street, Barstow, California 92311, (760) 256-5673.
Tuesday, April 2, 2002 | Clark County Government Center, ETD Room 3, 500 South Grand Central Parkway, Las Vegas, Nevada 89106, (702) 455-3121.
Wednesday, April 3, 2002 | Holiday Inn, 1575 West 200 North, Cedar City, Utah 84720, (435) 586-8888.
Thursday, April 4, 2002 | Fairfield Inn, 230 North Admiral Byrd Drive, Salt Lake City, Utah 84116, (801) 355-3331.
Friday, April 5, 2002 | Days Inn, 339 Wasatch Road, Evanston, Wyoming 82930, (307) 789-2220.

Interested groups and individuals are encouraged to attend and present oral comments on the draft EIS/EIR. Transcripts of the meetings will be prepared.

After the comments are reviewed, any significant new issues are investigated, and necessary modifications are made to the draft EIS/EIR, a final EIS/EIR will be published and distributed. The final EIS/EIR will contain the FERC and the CSLC staffs' responses to timely comments received on the draft EIS/EIR.

Comments will be considered by the FERC and the CSLC but will not serve to make the commenter a party to the proceeding. Any person seeking to become a party to the proceeding must file a motion to intervene pursuant to Rule 214 of the Commission's Rules of Practice and Procedure (Title 18 CFR part 385.214). Anyone may intervene in this proceeding based on the draft EIS/EIR. You must file your request to intervene as specified above.¹ You do not need intervenor status to have your comments considered.

¹ Interventions may also be filed electronically via the Internet in lieu of paper. See the previous discussion on filing comments electronically.

Federal, state, and local agencies; elected officials; Native American groups; newspapers; public libraries; intervenors to the FERC's proceeding; and other interested parties who provided scoping comments or written or oral comments on the draft EIS/EIR, as well as those who previously asked to remain on the mailing list will receive a copy of the final EIS/EIR. If you are not described by one of these categories but wish to receive a copy of the final EIS/EIR, you must write to the Secretary of the FERC indicating this request.

The draft EIS/EIR has been placed in the public files of the FERC and the CSLC and is available for public inspection at:

Federal Energy Regulatory Commission, Public Reference and Files Maintenance Branch, 888 First Street, N.E., Room 2A, Washington, DC 20426, (202) 208-1371

and

California State Lands Commission, 100 Howe Avenue, Suite 100 South, Sacramento, CA 95825, (916) 574-1889

A limited number of copies of the draft EIS/EIR are available from the FERC's Public Reference and Files Maintenance Branch identified above. Copies may also be obtained from Cy Oggins, CSLC, at the address above. The draft EIS/EIR is available for viewing at http://www.kernriver2003.com and at the public libraries listed in appendix 1 of this notice.²

² The appendix referenced in this notice is not being printed in the Federal Register. A copy is available on the FERC's website (http://www.ferc.gov) at the “RIMS” link or from the Commission's Public Reference and Files Maintenance Branch, 888 First Street, NE, Room 2A, Washington, DC 20426, or call (202)208-1371. For instructions on connecting to RIMS, refer to page 6 of this notice.

Additional information about the proposed project is available from Cy Oggins at the CSLC at (916) 574-1884, or on the CSLC website at http://www.slc.ca.gov, and from the FERC's Office of External Affairs at (202) 208-1088 (direct line) or you can call the FERC operator at 1-800-847-8885 and ask for External Affairs. Information is also available on the FERC website at http://www.ferc.gov using the “RIMS” link. Click on the “RIMS” link, select “Docket#,” and follow the instructions (call (202) 208-2222 for assistance). Access to the texts of formal documents issued by the FERC, such as orders and notices, is also available on the FERC website by using the “CIPS” link, selecting “Docket#,” and following the instructions. For assistance with access to CIPS, the CIPS helpline can be reached at (202) 208-2474.

Information concerning the involvement of the BLM is available from Jerry Crockford, BLM Project Manager, at (505) 599-6333. Information concerning the involvement of the FS is available from Kathy Slack, Supervisor's Office, at (435) 865-3742.

Magalie R. Salas,
Secretary.

[FR Doc. 02-4599 Filed 2-26-02; 8:45 am]

BILLING CODE 6717-01-P